DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required of the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on February 1, 2020, through February 29, 2020. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Dated: March 11, 2020.
Thomas J. Engels,
Administrator.

List of Petitions Filed

1. Megan Sebasky, Madison, Wisconsin, Court of Federal Claims No: 20-0122V

2. Dorothy Stradford, Hillside, New Jersey, Court of Federal Claims No: 20-0124V

3. Tammie Attaway, Salinas, California, Court of Federal Claims No: 20-0125V

4. Linda Fletcher, Port St. Lucie, Florida, Court of Federal Claims No: 20-0127V

5. Michael Cook, Zionsville, Indiana, Court of Federal Claims No: 20-0128V

6. Tammy Kleyle on behalf of A. N. K., Marrero, Louisiana, Court of Federal Claims No: 20-0129V

7. Julia Conroy, Tucson, Arizona, Court of Federal Claims No: 20-0131V

8. Edwin John Sherry and Kimberly Diane Sherry on behalf of Anjalie Leana-Rose Sherry, Deceased, Charlotte, North Carolina, Court of Federal Claims No: 20-0132V

9. Dan Noel and Haley Noel on behalf of H. N., Colorado Springs, Colorado, Court of Federal Claims No: 20-0134V

10. Ronald Piccolotti, Dallas, Texas, Court of Federal Claims No: 20-0135V

11. Christine Schultz, Frederick, Maryland, Court of Federal Claims No: 20-0136V

12. Katherine Mensinger on behalf of The Estate of Thomas Mensinger, Deceased, Benton Harbor, Michigan, Court of Federal Claims No: 20-0138V

13. Katelyn Uglialoro on behalf of LinMarie Uglialoro, Hershey, Pennsylvania, Court of Federal Claims No: 20-0139V

14. Carol Joan Gonzales, Puyallup, Washington, Court of Federal Claims No: 20-0140V

15. Neil Silver, New York, New York, Court of Federal Claims No: 20-0141V

16. Jeffrey E. Olson, Deceased, Waupun, Wisconsin, Court of Federal Claims No: 20-0142V

17. Joel Miles, Green Bay, Wisconsin, Court of Federal Claims No: 20-0146V

18. Enye McHugh on behalf of S. M., Madison, Wisconsin, Court of Federal Claims No: 20-0148V

19. Francis E. Sethman, Jr., Greensboro, North Carolina, Court of Federal Claims No: 20-0149V

20. Nancy Bender-Kelner, Shorewood, Minnesota, Court of Federal Claims No: 20-0151V

21. Maureen Miller, Berkeley, California, Court of Federal Claims No: 20-0152V

22. Sarah Eichorn, Des Moines, Iowa, Court of Federal Claims No: 20-0154V

23. Rebecca Viancourt, Cleveland, Ohio, Court of Federal Claims No: 20-0155V

24. Heidi M. Brill on behalf of A. B., Fond du Lac, Wisconsin, Court of Federal Claims No: 20-0156V

25. Mario A. Flores, Jr., Harlingen, Texas, Court of Federal Claims No: 20-0157V

26. Pamela M. Leathers, Camas, Washington, Court of Federal Claims No: 20-0162V

27. Ania Oliva-Guedes, Rochester, New York, Court of Federal Claims No: 20-0165V

28. Julie Lechner, Aberdeen, South Dakota, Court of Federal Claims No: 20-0170V

29. Helane Stein, Conshohocken, Pennsylvania, Court of Federal Claims No: 20-0171V

30. Lee Ann Sender, Washington, District of Columbia, Court of Federal Claims No: 20-0172V

31. Jeffrey Horning, Washington, District of Columbia, Court of Federal Claims No: 20-0173V

32. Jakeisha Saville, Dallas, Texas, Court of Federal Claims No: 20-0174V

33. Robert Introini, Mansfield, Massachusetts, Court of Federal Claims No: 20-0176V

34. Dustin Gibson, Humboldt, Iowa, Court of Federal Claims No: 20-0177V

35. Kamalika Saha, Cambridge, Massachusetts, Court of Federal Claims No: 20-0178V

36. Leticia Palencia on behalf of C. A. P., Harlingen, Texas, Court of Federal Claims No: 20-0180V

37. John Gavin, Washington, District of Columbia, Court of Federal Claims No: 20-0181V

38. Hilary Harris, Washington, District of Columbia, Court of Federal Claims No: 20-0182V

39. John Holloway, Oakland, California, Court of Federal Claims No: 20-0184V

40. Marylou LaLonde, Boston, Massachusetts, Court of Federal Claims No: 20-0186V

41. Gary Allen, Idaho Springs, Colorado, Court of Federal Claims No: 20-0187V

42. Rina Schnaufer, Rochester, New York, Court of Federal Claims No: 20-0189V

43. Rodney Koehl, Peoria, Illinois, Court of Federal Claims No: 20-0190V

44. Gelacio Valdez, Dixon, Illinois, Court of Federal Claims No: 20-0191V

45. Montana Smithey on behalf of E. S., Burlington, North Carolina, Court of Federal Claims No: 20-0192V

46. Joseph Dweck, Brooklyn, New York, Court of Federal Claims No: 20-0193V

47. Jennifer Bonilla-Edgington, Stroudsburg, Pennsylvania, Court of Federal Claims No: 20-0194V

48. Brenda Anderson, Grand Rapids, Michigan, Court of Federal Claims No: 20-0195V

49. Betty A. Dennis on behalf of Estate of Richard P. Dennis, Deceased, La Crosse, Wisconsin, Court of Federal Claims No: 20-0198V

50. Nicole Matley, Monroe, Wisconsin, Court of Federal Claims No: 20-0199V

51. Betty Davis, Decatur, Texas, Court of Federal Claims No: 20-0201V

52. Esther Reeves, Naples, Florida, Court of Federal Claims No: 20-0202V

53. Sandeep Bains, Abington, Pennsylvania, Court of Federal Claims No: 20-0203V

54. John Davenport, Tucson, Arizona, Court of Federal Claims No: 20-0206V

55. Phyllis Doyle, Seattle, Washington, Court of Federal Claims No: 20-0207V

56. David Carpenter, Jr., Nashville, Tennessee, Court of Federal Claims No: 20-0208V

57. Tracy Sue Beach, Newark, Ohio, Court of Federal Claims No: 20-0209V

58. Lindsay Corum on behalf of the Estate of Stephen M. Corum, Deceased on behalf of the Estate of Marshall Wayne Corum, Deceased, Henderson, Kentucky, Court of Federal Claims No: 20-0210V

59. Trina Lower, Moose Lake, Minnesota, Court of Federal Claims No: 20-0211V

60. Robert Clendaniel, Millville, New Jersey, Court of Federal Claims No: 20-0213V

61. Wayne Phillip Anderson, Bellevue, Washington, Court of Federal Claims No: 20-0214V

62. Patricia Alex Freeman, North Bend, Washington, Court of Federal Claims No: 20-0215V

63. Raymond Small, Harleysville, Pennsylvania, Court of Federal Claims No: 20-0216V

64. Susie Bjalobok, Pittsburgh, Pennsylvania, Court of Federal Claims No: 20-0217V

65. Jennifer Kilgrow, Salt Lake City, Utah, Court of Federal Claims No: 20-0218V

66. Ignacio Montes, Fontana, California, Court of Federal Claims No: 20-0219V

67. Adam Mackay, Dresher, Pennsylvania, Court of Federal Claims No: 20-0220V

68. Patricia Lopez, Brownsville, Texas, Court of Federal Claims No: 20-0223V

69. Selina Villafranca on behalf of N. L. V., Brownsville, Texas, Court of Federal Claims No: 20-0224V

70. Kim Warner on behalf of D. W., Dublin, Ohio, Court of Federal Claims No: 20-0225V

71. Shannon Pyers, Dresher, Pennsylvania, Court of Federal Claims No: 20-0231V

72. Lisa Macon, Englewood, New Jersey, Court of Federal Claims No: 20-0232V

[FR Doc. 2020-05525 Filed 3-16-20; 8:45 am]

BILLING CODE 4165-15-P